DEPARTMENT OF THE INTERIOR

National Park Service

[NPS-PWR-GOGA-22437; PPSESER003, PPMPSASIY.YPOOOO]

Final Environmental Impact Statement Dog Management Plan for Golden Gate National Recreation Area, California

AGENCY: National Park Service, Interior.

ACTION: Notice of availability.

SUMMARY: Pursuant to the National Environmental Policy Act of 1969, the National Park Service (NPS) announces the availability of the Final Environmental Impact Statement (FEIS) for the Dog Management Plan (Plan), Golden Gate National Recreation Area (GGNRA), California.

DATES: December 9, 2016.

ADDRESSES: An electronic copy of the Plan/FEIS will be available for public inspection at http://parkplanning.nps.gov/dogplan. A limited number of hard copies will be available at Park Headquarters, Fort Mason, Building 201, San Francisco, CA 94123.

FOR FURTHER INFORMATION CONTACT: Michael Savidge, Park Headquarters, Fort Mason, Building 201, San Francisco, CA 94123; phone (415) 561-4725.

SUPPLEMENTARY INFORMATION: Current dog management in the park is based on a number of factors. Areas included in the GGNRA Citizens' Advisory Commission's 1979 pet policy, followed by the park for over twenty years, are currently managed in accordance with the June 2, 2005, decision by the U.S. District Court for the Northern District of California (U.S. vs. Barley, 405 F.Supp. 2d 1121 (2005)) which prohibited the NPS from enforcing the NPS-wide regulation requiring on leash walking of pets (36 CFR 2.15(a)(2)) in areas where the park had previously allowed off leash use until notice and comment rulemaking under 36 CFR 1.5(b) is completed. A Notice of Proposed Rulemaking was published for a 90-day notice and public comment period on February 24, 2016. A final rule will be published after a 30-day no action period on the FEIS, and after a Record of Decision has been signed.

The purpose of the Plan/FEIS is to determine the manner and extent of dog use in appropriate areas of the park, provide a clear, enforceable dog management policy, preserve and protect natural and cultural resources and natural processes, provide a variety of visitor experiences, improve visitor and employee safety, and reduce user conflicts.

The Plan/FEIS evaluates the impacts of six alternatives for dog management in 22 areas of GGNRA. The range of alternatives includes the consensus recommendations of the GGNRA Negotiated Rulemaking Committee for Dog Management, the 1979 Pet Policy, the current NPS policy 36 CFR 2.15, voice and sight-control dog walking and commercial dog walking. The preferred alternative includes site specific treatments from multiple action alternatives that together allow for a balanced range of visitor experiences, including areas that prohibit dogs, and areas that allow on-leash and voice and sight-control dog walking. It includes the following key elements: The Negotiated Rulemaking Committee's consensus agreement on overarching plan guidelines and committee recommendations on commercial dog walking limits; on-leash and/or voice and sight-control—dog walking in multiple specific areas of the park where impacts to sensitive resources and visitor experience were minimized; no dogs in areas of the park where impacts would be unacceptable and could not be mitigated; a monitoring-based management program measuring compliance in on-leash and voice and sight-control dog walking areas which will provide information that can result in a range of management responses as needed, including further restrictions, training requirements or temporary or long-term closures to a use if that use approaches an unacceptable level; and permit requirements for both private and commercial dog walkers for more than three dogs, with a maximum of six, in limited areas of the park.

Dated: December 2, 2016.
Laura E. Joss,
Regional Director, Pacific West Region.

[FR Doc. 2016-29529 Filed 12-8-16; 8:45 am]

BILLING CODE 4312-52-P